DEPARTMENT OF THE INTERIOR

Bureau of Land Management

[F-19155-16; AK-964-1410-KC-P]

Alaska Native Claims Selection

AGENCY: Bureau of Land Management, Interior.

ACTION: Notice of modified decision approving lands for conveyance.

SUMMARY: As required by 43 CFR 2650.7(d), notice is hereby given that the decision approving lands for conveyance to Doyon, Limited, notice of which was published in the Federal Register on February 23, 2009, is modified to include Secs. 34 and 35 in the legal description of T. 10 S., R. 10 E., Kateel River Meridian, Alaska. Notice of the modified decision will also be published four times in the Fairbanks Daily News-Miner.

DATES: The time limits for filing an appeal are:

1. Any party claiming a property interest which is adversely affected by the decision shall have until June 3, 2009 to file an appeal on the issue in the modified decision.

2. Parties receiving service of the decision by certified mail shall have 30 days from the date of receipt to file an appeal.

Parties who do not file an appeal in accordance with the requirements of 43 CFR Part 4, Subpart E, shall be deemed to have waived their rights. Except as modified, the decision, notice of which was given February 23, 2009 is final.

ADDRESSES: A copy of the modified decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Jenny M. Anderson,
Land Law Examiner, Land Transfer Adjudication I.

[FR Doc. E9-10129 Filed 5-1-09; 8:45 am]

BILLING CODE 4310-JA-P